DEPARTMENT OF LABOR

Employment and Training Administration

[TA-W-41,138]

Huntsman Polymers Corporation, Odessa, Texas; Notice of Termination of Investigation

Pursuant to section 221 of the Trade Act of 1974, an investigation was initiated on March 25, 2002, in response to a petition filed on behalf of workers at Huntsman Polymers, Odessa, Texas.

Petition TA-W-41,138 is a duplicate of a previous petition (TA-W-39,780), which was certified on August 29, 2001. Consequently, further investigation in this case would serve no purpose, and the investigation has been terminated.

Signed in Washington, DC, this 3rd day of May, 2002.
Linda G. Poole,
Certifying Officer, Division of Trade Adjustment Assistance.

[FR Doc. 02-15438 Filed 6-18-02; 8:45 am]

BILLING CODE 4510-30-P